DEPARTMENT OF AGRICULTURE

Submission for OMB Review; Comment Request

July 15, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA _Submission@OMB.EOP.GOV or fax (202) 395-5806 and to Departmental Clearance Office, USDA, OCIO, Mail Stop 7602, Washington, DC. 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: NAHMS Chronic Wasting Disease 2005 Study (CWD 2005).

OMB Control Number: 0579-NEW.

Summary of Collection: 7 U.S.C. 391, the Animal Industry Act of 1884, which established the precursor of the Animal and Plant Health Inspection Service (APHIS), Veterinary Services, the Bureau of Animal Industry, mandates collection and dissemination of animal health and information. APHIS plans to initiate a national study titled the Chronic Wasting Disease (CWD) 2005. CWD is a fatal, neurological disease that occurs in deer and elk populations. The study will collect information from cervid producers nationwide.

Need and Use of the Information: The purpose of the CWD study is to support the farmed/captive cervid industry by collecting baseline data to: (1) Describe general health and management practices; (2) describe the farmed/captive cervid industry; and (3) identify the most efficient and effective ways to contact producers for outreach purposes. Without this type of data, APHIS ability to detect trends in management, production, and health status that increase/decrease farm economy, either directly or indirectly, would be reduced or nonexistent.

Description of Respondents: Individuals or households; Farms; Business or other for-profit.

Number of Respondents: 5,600.

Frequency of Responses: Reporting: Other (One time).

Total Burden Hours: 5,600.

Ruth Brown,
Departmental Information Collection Clearance Officer.

[FR Doc. 05-14295 Filed 7-19-05; 8:45 am]

BILLING CODE 3410-34-M